DEPARTMENT OF THE INTERIOR

Bureau of Land Management

[BLM_ID_FRN]

Filing of Plats of Survey: Idaho

AGENCY: Bureau of Land Management, Interior.

ACTION: Notice of official filing of plats of surveys.

SUMMARY: The plats and/or field notes of the survey of the following described lands are scheduled to be officially filed in the Bureau of Land Management, Idaho State Office, Boise, Idaho, 30 days from the date of this publication. The surveys were conducted to meet administrative needs of various Federal agencies.

ADDRESSES: A copy of the survey record may be obtained from the Public Room at the Bureau of Land Management, Idaho State Office, 1387 S. Vinnell Way, Boise, Idaho 83709, upon required payment.

FOR FURTHER INFORMATION CONTACT: Daniel S. Young, Branch of Cadastral Survey, Bureau of Land Management, 1387 South Vinnell Way, Boise, Idaho 83709-1657; (208) 373-3994; email: dsyoung@blm.gov. Individuals in the United States who are deaf, deafblind, hard of hearing, or have a speech disability may dial 7-1-1 (TTY, TDD, or TeleBraille) to access telecommunications relay services. Individuals outside the United States should use the relay services offered within their country to make international calls to the point-of-contact in the United States.

SUPPLEMENTARY INFORMATION:

Boise Meridian, Idaho

T. 32 N., R. 3 E., Sections, 14, 22, 24, 25, 27, 28, and 33, accepted September 27, 2024.

T. 34 N., R. 3 E., Section 26, accepted September 18, 2024.

T. 34. N., R. 2 E., Sections 1, 2, 10, 13, 15, and 24, accepted September 12, 2024.

T. 3 S., R. 2 W., Sections 3, 4, 33, and 34, accepted September 17, 2024.

T. 32 N., R. 4 E., Sections 30 and 31, accepted September 19, 2024.

T. 35 N., R. 3 E., Sections 7, 30, 31, and 32, accepted November 15, 2024.

T. 31 N., R. 3 E., Sections 11, 13, and 24, accepted November 18, 2024.

The plat, in one sheet, incorporating the field notes of the dependent resurvey of portions of the south and east boundaries, and a portion of the subdivisional lines, and the subdivision of sections 14, 22, 24, 25, 27, 28, and 33, T. 32 N., R. 3 E., Boise Meridian, Idaho, Group Number 1526, accepted September 27, 2024.

The plat, in one sheet, incorporating the field notes of the corrective dependent resurvey of a portion of the subdivisional lines, and the dependent resurvey of a portion of the subdivisional lines, the 1891 right bank meanders of the Clearwater River in section 26, and boundaries of Mineral Survey Number 2936, and the subdivision of section 26, T. 34 N., R. 3 E., Boise Meridian, Idaho, Group Number 1470, accepted September 18, 2024.

The plat, in one sheet, incorporating the field notes of the corrective dependent resurvey of a portion of the subdivisional lines and a portion of the subdivision of section 24, and the dependent resurvey of portions of the north and east boundaries, a portion of the subdivisional lines, and the original 1897 meanders of the Clearwater River in section 1, and the subdivision of sections 1, 2, 10, 13, and 15, T. 34. N., R. 2 E., Boise Meridian, Idaho, Group Number 1491, accepted September 12, 2024.

The field notes of the remonumentation of the corner of sections 3, 4, 33, and 34, on the south boundary of T. 3 S., R. 2 W, Boise Meridian, Idaho, Group Number 1500, accepted September 17, 2024.

The plat, in one sheet, incorporating the field notes of the dependent resurvey of portions of the south and west boundaries, and a portion of the subdivisional lines, and the subdivision of sections 30 and 31, Township 32 North, Range 4 East, Boise Meridian, Idaho, Group Number 1506, accepted September 19, 2024.

The plat, in two sheets, incorporating the field notes of the dependent resurvey of a portion of the East Boundary of the Nez Perce Indian Reservation, a portion of the south and west boundaries, and a portion of the subdivisional lines, and the subdivision of sections 7, 30, 31, and 32, Township 35 North, Range 3 East, Boise Meridian, Idaho, Group Number 1533, accepted November 15, 2024.

The plat, in one sheet, incorporating the field notes of the dependent resurvey of a portion of the South Boundary of the Nez Perce Indian Reservation, a portion of the east boundary, and a portion of the subdivisional lines, and the subdivision of sections 11, 13, and 24, Township 31 North, Range 3 East, Boise Meridian, Idaho Group Number 1514, accepted November 18, 2024.

A person or party who wishes to protest one or more plats of survey identified above must file a written notice of protest with the Chief Cadastral Surveyor for Idaho, BLM within 30 calendar days from the date of this publication at the address listed in the ADDRESSES section of this notice. The protest must identify the plat(s) of survey that the person or party wishes to protest and contain all reasons and evidence in support of the protest. A protest is considered filed on the date it is received by the Chief Cadastral Surveyor for Idaho during regular business hours; if received after regular business hours, a protest will be considered filed the next business day.

Before including your address, phone number, email address, or other personal identifying information in a protest, you should be aware that the documents you submit, including your personal identifying information, may be made publicly available in their entirety at any time. While you can ask us to withhold your personal identifying information from public review, we cannot guarantee that we will be able to do so.

(Authority: 43 U.S.C., Chapter 3)

Michael L. Hart,
Chief Cadastral Surveyor for Idaho.

[FR Doc. 2024-28701 Filed 12-5-24; 8:45 am]

BILLING CODE 4331-19-P